DEPARTMENT OF TRANSPORTATION

Federal Motor Carrier Safety Administration

[Docket No. DOT-OST-2019-0137]

Privacy Act of 1974; Department of Transportation, Federal Motor Carrier Safety Administration; DOT/FMCSA 010 Drug and Alcohol Clearinghouse

AGENCY: Federal Motor Carrier Safety Administration, Department of Transportation.

ACTION: Notice of a new system of records.

SUMMARY: In accordance with the Privacy Act of 1974, the Department of Transportation (DOT), Federal Motor Carrier Safety Administration (FMCSA) proposes a new system of records titled “Drug and Alcohol Clearinghouse (Clearinghouse)”. This system of records allows FMCSA to collect and maintain records on commercial driver's license (CDL) and commercial learner's permit (CLP) holders who have received verified positive DOT drug or alcohol test results, refuse such testing, or otherwise violate FMCSA's drug and alcohol use prohibitions. The Clearinghouse will collect and maintain records on the completion of substance abuse programs as part of the return-to-duty process and will collect and maintain drivers' consent to the release of information. In addition, the Clearinghouse will collect and maintain records of queries of the system conducted by employers or service agents acting on their behalf, and State Driver Licensing Agencies (SDLAs). The information in this system will be used to enhance compliance with drug and alcohol use testing regulations by identifying CDL or CLP holders who have committed drug and alcohol violations that render them ineligible to operate a commercial motor vehicle (CMV). This new system will be included in the DOT inventory of record systems.

DATES: Written comments must be submitted on or before November 21, 2019. The system will be effective November 21, 2019. Routine Uses will be effective at that time.

ADDRESSES: You may submit comments, identified by docket number DOT-OST-2019-0137 by one of the following methods:

Federal e-Rulemaking Portal: https://www.regulations.gov.

Fax: (202) 366-XXXX.

Mail: Department of Transportation Docket Management, Room W12-140, 1200 New Jersey Ave. SE, Washington, DC 20590.

Instructions: All submissions received must include the agency name and docket number DOT-OST-2019-0137. All comments received will be posted without change to https://www.regulations.gov, and may include any personal information provided. In order to facilitate comment tracking and response, we encourage commenters to provide their name, or the name of their organization; however, submission of names is completely optional. Whether or not commenters identify themselves, all timely comments will be fully considered. If you wish to provide comments containing proprietary or confidential information, please contact the agency for alternate submission instructions.

Docket: For access to the docket to read background documents or comments received, go to https://www.regulations.gov. Follow the online instructions for accessing.

FOR FURTHER INFORMATION CONTACT: For system-related questions please contact Chief, Compliance Division, Office of Enforcement and Compliance, Federal Motor Carrier Safety Administration, Email: clearinghouse@dot.gov, Tel. (202) 366-1812. For privacy questions, please contact: Claire W. Barrett, Departmental Chief Privacy Officer, Department of Transportation, S-81, Washington, DC 20590, Email: privacy@dot.gov, Tel. (202) 366-8135.

SUPPLEMENTARY INFORMATION:

Background

In accordance with the Privacy Act of 1974, FMCSA is proposing a new system of records titled “Drug and Alcohol Clearinghouse”. This system will collect information related to violations of the Agency's drug and alcohol testing program regulations committed by holders of commercial driver's licenses (CDL) or commercial learner's permits (CLP).

On December 5, 2016, FMCSA published a final rule titled, “Commercial Driver's License Drug and Alcohol Clearinghouse” (81 FR 87686). The rule amended the Federal Motor Carrier Safety Regulations (FMCSRs) to establish requirements for the CDL Drug and Alcohol Clearinghouse (Clearinghouse), a database under the Agency's administration that will contain information about violations of FMCSA's drug and alcohol testing program for CDL or CLP holders. This rule was mandated by the Moving Ahead for Progress in the 21st Century Act (MAP-21) (Pub. L. 112-141, 126 Stat. 405, codified at 49 U.S.C. 31306a). The Clearinghouse will enhance compliance with drug and alcohol use and testing regulations by identifying CDL or CLP holders who have committed drug and alcohol violations that render them ineligible to operate a commercial motor vehicle (CMV).

The Clearinghouse is a tool that FMCSA, employers, and prospective employers will use to identify drivers who are prohibited from operating a CMV, based on DOT drug and alcohol program violations, and ensure that such drivers receive the required substance abuse evaluation and treatment before operating a CMV on public roads. Specifically, the drug and alcohol program violation information maintained in the Clearinghouse will enable employers to identify drivers who commit a drug or alcohol program violation while working for another employer, but who subsequently fail to inform a potential or new employer, as is required by current regulations.

Employers, or their designated service agents (Consortia/Third-Party Administrator (C/TPA)) are required to query the Clearinghouse using the name of the driver to search for any drug and alcohol program violations before hiring a prospective driver, and at least annually for all currently employed drivers. Queries of the Clearinghouse fall into one of two categories: Limited or full. Both limited and full queries require a driver's consent before any information can be released about that driver. A limited query of the Clearinghouse will inform the employer or C/TPA whether or not any violation related information about the driver exists; however, a limited query does not result in the release of any detailed violation information. To view detailed violation information contained in the Clearinghouse, the employer or C/TPA must perform a full query. Once a driver's specific consent is obtained, a full query will return the following information about the driver:

• Driver details, including name, date of birth, contact information, CLP/CLD information, and eligibility status

• Information about the driver's employer who ordered the test or reported a violation to the Clearinghouse

• Test details, including the type of test, violation details, and test result

• Information about who entered the test result

• Return-to-duty (RTD) activity information

When an employer queries the driver as a pre-employment check, a full query must be conducted. In accordance with 382.701(c), if additional information is entered on the driver within 30 days of the pre-employment query, the Clearinghouse will send an electronic notification to the employer or C/TPA indicating additional information has been added to a previously queried record. The employer must login to the Clearinghouse and obtain specific consent from the driver before the details of this newly reported information will be disclosed. An annual query may be conducted as either a limited query or a full query.

A limited query requires a driver's general consent, which may be effective for an indefinite period (e.g., the duration of employment) and for an unlimited number of queries. The scope of general consent is decided between the employer and the driver; employers must retain general consent documentation for three years. Once the employer obtains general consent, the employer will log into the Clearinghouse, select limited query, enter the driver's information, and submit the query. The Clearinghouse will return a message to the employer indicating whether the Clearinghouse contains drug or alcohol violation-related information on the queried driver. If the limited query indicates that the Clearinghouse contains information on the driver, the employer or C/TPA must conduct a full query.

When conducting a full query, the employer or C/TPA must obtain specific consent from the driver by logging into the Clearinghouse and requesting that the driver provide consent to release full query results. When an employer requests a full query, the driver will receive notification of the request for specific consent via the preferred contact method indicated in their Clearinghouse account, such as email or U.S. mail. To grant or decline specific consent, the driver must register in the Clearinghouse to establish an account. Once logged in, the driver will be able to either grant or decline consent to the requesting employer. If the driver provides consent, the employer will receive notification of the consent via email. The employer will log into their account to view the detailed information for the queried driver.

In accordance with the Clearinghouse final rule, if an employer is unable to obtain either general consent from a driver for a limited query, or specific consent for a full query, the employer must remove the driver from performing safety-sensitive functions, as described above.

In addition to the general routine uses applicable to all DOT systems of records, FMCSA is proposing three new system-specific Routine Uses to support enforcement of drug and alcohol use and testing regulations and to implement statutory requirements pertaining to States and the National Transportation Safety Board.

The first proposed Routine Use would allow the sharing of driver eligibility and compliance data with Motor Carrier Safety Assistance Program (MCSAP) partner agencies, for use during investigations, roadside inspections and compliance reviews of motor carriers. The MCSAP is a Federal grant program providing financial assistance to States to reduce the number and severity of crashes involving CMVs. MCSAP personnel act on the Agency's behalf to enforce the FMCSRs. This routine use will strengthen the enforcement of the current prohibition against operating a CMV, or performing other safety-sensitive functions, due to drug and alcohol program violations, as well as other drug and alcohol program requirements. The second proposed Routine Use would allow the sharing of a driver's CMV operating status (prohibited or not prohibited) in response to mandatory queries conducted by a State Driver's Licensing Agency (SDLA) anytime a CDL is issued, renewed, transferred or upgraded. This routine use will allow SDLAs to verify a driver's eligibility to operate a CMV prior to completing licensing transactions (as mandated by 49 U.S.C. 31311(a)(24); 31306a(h)(2)). The third proposed Routine Use would allow the National Transportation Safety Board (NTSB), upon request, to receive information on a driver who is involved in a crash under investigation by the NTSB (as mandated by 49 U.S.C. 31306a(i)). These proposed Routine Uses allow MCSAP partners, SDLAs, and NTSB to identify CDL or CLP holders who have committed drug and alcohol violations that render them ineligible to operate a commercial motor vehicle (CMV). They are compatible with the purpose for which the information was collected, directly furthering the goals of 49 U.S.C. 31306a, to improve roadway safety and enhance compliance with drug and alcohol use testing regulations.

FMCSA has also included DOT General Routine Uses, to the extent they are compatible with the purposes of this System. As recognized by the Office of Management and Budget (OMB) in its Privacy Act Implementation Guidance and Responsibilities (65 FR 19746, July 9, 1975), the routine uses include proper and necessary uses of information in the system, even if such uses occur infrequently. FMCSA has included in this notice routine uses for disclosures to law enforcement when the record, on its face, indicates a violation of law, to DOJ for litigation purposes, or when necessary in investigating or responding to a breach of this system or other agencies' systems. DOT may disclose to Federal, State, local, or foreign agency information relevant to law enforcement, litigation, and proceedings before any court or adjudicative or administrative body. OMB has long recognized that these types of routine uses are “proper and necessary” uses of information and qualify as compatible with agency systems. 65 FR 19476. In addition, by OMB Memorandum M-17-12, OMB directed agencies to include routine uses that will permit sharing of information when needed to investigate, respond to, and mitigate a breach of a Federal information system. DOT also has included routine uses that permit sharing with the National Archives and Records Administration when necessary for an inspection, to any Federal government agency engaged in audit or oversight related to this system, or when DOT determines that the disclosure will detect, prevent, or mitigate terrorism activity. These types of disclosures are necessary and proper uses of information in this system because they further DOT's obligation to fulfil its records management and program management responsibilities by facilitating accountability to agencies charged with oversight in these areas, and DOT's obligation under Intelligence Reform and Terrorism Prevention Act of 2004, Public Law 108-456, and Executive Order 13388 (Oct. 25, 2005) to share information necessary and relevant to detect, prevent, disrupt, preempt, or mitigate the effects of terrorist activities against the territory, people, and interests of the United States.

Privacy Act

The Privacy Act governs the means by which the Federal Government agencies collect, maintain, use, and disseminate individuals' records. The Privacy Act applies to information that is maintained in a “system of records.” A “system of records” is a group of any records under the control of an agency from which information is retrieved by the name of an individual or by some identifying number, symbol, or other identifying particular assigned to the individual. The Privacy Act extends rights and protections to individuals who are U.S. citizens and lawful permanent residents. Additionally, the Judicial Redress Act (JRA) provides a covered person with a statutory right to make requests for access and amendment to covered records, as defined by the JRA, along with judicial review for denials of such requests. In addition, the JRA prohibits disclosures of covered records, except as otherwise permitted by the Privacy Act.

Below is the description of the Clearinghouse System of Records. In accordance with 5 U.S.C. 552a(r), DOT has provided a report of this system of records to the OMB and to Congress.

SYSTEM NAME AND NUMBER

DOT/FMCSA 010—Commercial Driver's License Drug and Alcohol Clearinghouse (Clearinghouse).

SECURITY CLASSIFICATION:

Unclassified.

SYSTEM LOCATION:

The Clearinghouse is developed by a third-party contractor on behalf of FMCSA. Records are maintained in a third-party cloud environment at the U.S. DOT at 1200 New Jersey Avenue SE, Washington, DC 20590.

SYSTEM MANAGER(S):

Chief, Compliance Division, Office of Enforcement and Compliance, FMCSA, U.S. DOT, 1200 New Jersey Avenue SE, Washington, DC 20590; Clearinghouse@dot.gov.

AUTHORITY FOR MAINTENANCE OF THE SYSTEM:

Moving Ahead for Progress in the 21st Century Act (MAP-21), (49 U.S.C. 31306a(a)(1)).

PURPOSE(S) OF THE SYSTEM:

The purpose of the Clearinghouse is to: (1) Improve compliance with the DOT's controlled substances and alcohol testing program applicable to Commercial Driver's License (CDL) and Commercial Learner's Permit (CLP) holders; and (2) enhance the safety of U.S. roadways by reducing crashes and injuries involving drivers violating alcohol or controlled substances regulations (49 U.S.C. 31306a(a)(2)). FMCSA and motor carrier employers will use information in the Clearinghouse records to identify drivers who are prohibited from operating a Commercial Motor Vehicle (CMV) and must receive the required evaluation and treatment before resuming safety-sensitive functions. Safety-sensitive functions are defined in 49 CFR 382.107 as the time from when a driver begins to work or is required to be in readiness to work until the time he/she is relieved from work and all responsibility for performing work. Safety-sensitive functions include driving a CMV on public roads.

In addition, the Clearinghouse will allow prospective employers to confirm a driver did not commit a drug or alcohol violation while working for another employer that would prohibit the individual from operating a CMV or performing other safety-sensitive functions.

CATEGORIES OF INDIVIDUALS COVERED BY THE SYSTEM:

Categories of individuals within this system include: CDL and CLP holders. Information about Medical Review Officers (MRO), Substance Abuse Professionals (SAP), employers, and Consortia/Third-Party Administrators (C/TPA) may be included in CDL and CLP holders' records.

CATEGORIES OF RECORDS IN THE SYSTEM:

Categories of records in the system include:

The following information about CDL and CLP holders:

• Name

• Contact Information including physical address, phone number(s) and email address

• Date of birth

• Current and previous CLP or CDL license number, state of issuance, and expiration date

• Drug or alcohol test results and violation information including employer name, address, and USDOT#, as applicable

• CMV driving eligibility status

• Driver Substance Abuse Professional (SAP) selection including SAP name, address and phone number, as applicable

• Actual Knowledge Report Information, including violation details, documentation to support the allegation and certificate of service to the employee, as applicable

• Failure to appear and refusal to test detail information, including documentation regarding notification of test requirement, documentation of termination or resignation and certificate of service to the employee, as applicable

• Return to duty (RTD) eligibility date and negative test result. A negative RTD test result allows the driver to resume operation of a CMV and other safety-sensitive functions

• Follow-up testing plan completion information

• Query information including who requested the query and when the query was conducted

• Query consent information including the driver's approval or refusal

Information about MROs and SAPs as specified in § 382.711(c) to include:

• Contact information including name, email address, phone number(s), office location addresses and applicable qualifications as per 49 CFR part 40.

Information about employers, designated agents and C/TPAs as specified in § 382.711(b) and § 382.711(d) to include:

• Contact information including name, email address, phone number(s), office location addresses

• USDOT #, as applicable

RECORD SOURCE CATEGORIES:

Records are obtained from MROs for CLP or CDL holders who have confirmed positive tests or test refusals. Motor carrier employers will report actual knowledge of use, alcohol confirmation test results, or test refusals. Records regarding completion of required RTD processes are obtained from SAPs and employers. Records are obtained from employers who request full query consent of drivers and the approval or rejection of the consent from the drivers. Registration information records are obtained from CLP and CDL holders, MROs, SAPs, employers, and their designated agents when an authorized user registers for the Clearinghouse and creates a new account or when updating previous account information.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOT as a routine use pursuant to 5 U.S.C. 552a(b)(3) as follows:

System Specific Routine Uses

1. To Motor Carrier Safety Assistance Program (MCSAP) partner agencies, for use during investigations, roadside inspections and safety audits of motor carriers. This routine use will enable the MCSAP agencies to enforce the current prohibition against operating a CMV, or performing other safety-sensitive functions, due to drug and alcohol program violations.

2. To State Driver's Licensing Agency (SDLA), for the purposes of verifying a driver's qualification to operate a CMV prior to completing any licensing transactions, including issuance, renewal, transfer, or upgrade of any a CLP or CDL (as mandated by 49 U.S.C. 31311(a)(24); 31306a(h)(2)).

3. To the National Transportation Safety Board (NTSB), upon request, when a driver is involved in a crash under investigation by the NTSB (as mandated by 49 U.S.C. 31306a(i)).

Department General Routine Uses

4. One or more records from a system of records may be disclosed routinely to the National Archives and Records Administration (NARA) in records management inspections being conducted under the authority of 44 U.S.C. 2904 and 2906.

5. DOT may make available to another agency or instrumentality of any government jurisdiction, including State and local governments, listings of names from any system of records in DOT for use in law enforcement activities, either civil or criminal, or to expose fraudulent claims, regardless of the stated purpose for the collection of the information in the system of records. These enforcement activities are generally referred to as matching programs because two lists of names are checked for match using automated assistance. This routine use is advisory in nature and does not offer unrestricted access to systems of records for such law enforcement and related antifraud activities. Each request will be considered on the basis of its purpose, merits, cost effectiveness and alternatives using Instructions on reporting computer matching programs to the Office of Management and Budget, OMB, Congress, and the public, published by the Director, OMB, dated September 20, 1989.

6. DOT may disclose records from this system, as a routine use, to the Office of Government Information Services for the purpose of (a) resolving disputes between FOIA requesters and Federal agencies and (b) reviewing agencies' policies, procedures, and compliance in order to recommend policy changes to Congress and the President.

7. DOT may disclose records from the system, as a routine use, to contractors and their agents, experts, consultants, and others performing or working on a contract, service, cooperative agreement, or other assignment for DOT, when necessary to accomplish an agency function related to this system of records.

8. DOT may disclose records from this system, as a routine use, to an agency, organization, or individual for the purpose of performing audit or oversight operations related to this system of records, but only such records as are necessary and relevant to the audit or oversight activity. This routine use does not apply to intra-agency sharing authorized under Section (b)(1) of the Privacy Act.

9. DOT may disclose from this system, as a routine use, records consisting of, or relating to, terrorism information (6 U.S.C. 485(a)(5)), homeland security information (6 U.S.C. 482(f)(1)), or Law enforcement information (Guideline 2 Report attached to White House Memorandum, “Information Sharing Environment”, November 22, 2006) to a Federal, State, local, tribal, territorial, foreign government and/or multinational agency, either in response to its request or upon the initiative of the Component, for purposes of sharing such information as is necessary and relevant for the agencies to detect, prevent, disrupt, preempt, and mitigate the effects of terrorist activities against the territory, people, and interests of the United States of America, as contemplated by the Intelligence Reform and Terrorism Prevention Act of 2004 (Pub. L. 108-458) and Executive Order 13388 (October 25, 2005).

10. In the event that a system of records maintained by DOT to carry out its functions indicates a violation or potential violation of law, whether civil, criminal or regulatory in nature, and whether arising by general statute or particular program pursuant thereto, the relevant records in the system of records may be referred, as a routine use, to the appropriate agency, whether Federal, State, local or foreign, charged with the responsibility of investigating or prosecuting such violation or charged with enforcing or implementing the statute, or rule, regulation, or order issued pursuant thereto.

11. A record from this system of records may be disclosed, as a routine use, to a Federal, State, or local agency maintaining civil, criminal, or other relevant enforcement information or other pertinent information, such as current licenses, if necessary to obtain information relevant to a DOT decision concerning the hiring or retention of an employee, the issuance of a security clearance, the letting of a contract, or the issuance of a license, grant or other benefit.

12. A record from this system of records may be disclosed, as a routine use, to a Federal agency, in response to its request, in connection with the hiring or retention of an employee, the issuance of a security clearance, the reporting of an investigation of an employee, the letting of a contract, or the issuance of a license, grant, or other benefit by the requesting agency, to the extent that the information is relevant and necessary to the requesting agency's decision on the matter.

13. Routine Use for Agency Disclosure in Other Proceedings. It shall be a routine use of records in this system to disclose them in proceedings before any court or adjudicative or administrative body before which DOT or any agency thereof, appears, when— (a) DOT, or any agency thereof, or (b) Any employee of DOT or any agency thereof in his/her official capacity, or (c) Any employee of DOT or any agency thereof in his/her individual capacity where DOT has agreed to represent the employee, or (d) The United States or any agency thereof, where DOT determines that the proceeding is likely to affect the United States, is a party to the proceeding or has an interest in such proceeding, and DOT determines that use of such records is relevant and necessary in the proceeding, provided, however, that in each case, DOT determines that disclosure of the records in the proceeding is a use of the information contained in the records that is compatible with the purpose for which the records were collected.

14a. DOT may disclose records from the system, as a routine use to appropriate agencies, entities, and persons when (1) DOT suspects or has confirmed that there has been a breach of the system of records, (2) DOT has determined that as a result of the suspected or confirmed breach there is a risk of harm to individuals, DOT (including its information systems, programs, and operations), the Federal Government, or national security; and (3) the disclosure made to such agencies, entities, and persons is reasonably necessary to assist in connection with DOT's efforts to respond to the suspected or confirmed breach or to prevent, minimize, or remedy such harm.

14b. DOT may disclose records from the system, as a routine use to another Federal agency or Federal entity, when DOT determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

15. Routine Use for Disclosure for Use in Litigation. It shall be a routine use of the records in this system of records to disclose them to the Department of Justice or other Federal agency conducting litigation when— (a) DOT, or any agency thereof, or (b) Any employee of DOT or any agency thereof, in his/her official capacity, or (c) Any employee of DOT or any agency thereof, in his/her individual capacity where the Department of Justice has agreed to represent the employee, or (d) The United States or any agency thereof, where DOT determines that litigation is likely to affect the United States, is a party to litigation or has an interest in such litigation, and the use of such records by the Department of Justice or other Federal agency conducting the litigation is deemed by DOT to be relevant and necessary in the litigation, provided, however, that in each case, DOT determines that disclosure of the records in the litigation is a use of the information contained in the records that is compatible with the purpose for which the records were collected.

16. Disclosure may be made to a Congressional office from the record of an individual in response to an inquiry from the Congressional office made at the request of that individual. In such cases, however, the Congressional office does not have greater rights to records than the individual. Thus, the disclosure may be withheld from delivery to the individual where the file contains investigative or actual information or other materials which are being used, or are expected to be used, to support prosecution or fines against the individual for violations of a statute, or of regulations of the Department based on statutory authority. No such limitations apply to records requested for Congressional oversight or legislative purposes; release is authorized under 49 CFR 10.35(9).

POLICIES AND PRACTICES FOR STORAGE OF RECORDS:

Records in this system are stored electronically on a contractor-maintained cloud storage service.

POLICIES AND PRACTICES FOR RETRIEVAL OF RECORDS:

Records may be retrieved by the following data elements: CDL holder's name, date of birth, license number, and state of issuance.

POLICIES AND PRACTICES FOR RETENTION AND DISPOSAL OF RECORDS:

Records will be retained and disposed of in accordance with the records control schedule titled, “Commercial Driver's License Drug and Alcohol Clearinghouse” approved by the NARA on July 23, 2019. The record schedule requires retention for 5 years if the violation is resolved and RTD is completed, after 5 years the records will be transferred to a separate location for archiving for 6 years and then the records will be destroyed. For records that have not had the RTD process successfully completed will remain active in the Clearinghouse for 70 years.

ADMINISTRATIVE, TECHNICAL, AND PHYSICAL SAFEGUARDS:

Records in this system are safeguarded in accordance with applicable rules and policies, including all applicable DOT automated systems security and access policies. Appropriate controls have been imposed to minimize the risk of compromising the information that is being stored, and ensuring confidentiality of communications using tools such as encryption, authentication of sending parties, and compartmentalizing databases; and employing auditing software. Clearinghouse data is encrypted at rest. In addition, the connection between the database and the server is encrypted. Access to records in this system is limited to those individuals who have a need to know the information for the performance of their official duties and who have appropriate clearances or permissions. All personnel with access to data are screened through background investigations commensurate with the level of access required to perform their duties.

RECORD ACCESS PROCEDURES:

Individuals seeking notification of and access to any record contained in this system of records, or seeking to contest its content, may submit a request to the System Manager in writing in writing to the address provided under “System Manager and Address.” Individuals may also search the public docket at www.regulations.gov by their name.

When seeking records about yourself from this system of records or any other Departmental system of records your request must conform with the Privacy Act regulations set forth in 49 CFR part 10. You must sign your request, and your signature must either be notarized or submitted under 28 U.S.C. 1746, a law that permits statements to be made under penalty of perjury as a substitute for notarization. While no specific form is required, you should provide the following:

• An explanation of why you believe the Department would have information on you;

• Identify which component(s) of the Department you believe may have the information about you;

• Specify when you believe the records would have been created;

• Provide any other information that will help the FOIA staff determine which DOT component agency may have responsive records; and

If your request is seeking records pertaining to another living individual, you must include a statement from that individual certifying his/her agreement for you to access his/her records. Without this bulleted information, the component(s) may not be able to conduct an effective search, and your request may be denied due to lack of specificity or lack of compliance with applicable regulations.

CONTESTING RECORD PROCEDURES:

Individuals seeking to contest the content of any record pertaining to him or her in the system may contact the System Manager following the Privacy Act procedures in 49 CFR part 10, subpart E, Correction of Records.

Drivers may request corrections in the accuracy of information in their Clearinghouse record using procedures set forth in 49 CFR 382.717. Under these procedures, request for correction are limited to inaccurately reported information, not the accuracy of test results or refusals. Drivers may also request that the following information be removed from their Clearinghouse record: An employer's report of actual knowledge of use, based on a traffic citation for driving a CMV under the influence of controlled substances or alcohol, if the citation did not result in the driver's conviction; an employer's report of actual knowledge of use, if the employer's report does not comply with applicable documentation and notice requirements; or an employer's report of a failure to appear test refusal, if the employer's report does not comply with applicable documentation and notice requirements. Drivers may submit their request for correction or removal electronically through the Clearinghouse or in writing to FMCSA.

Written requests for correction must conform with the Privacy Act regulations set forth in 49 CFR part 10. You must sign your request, and your signature must either be notarized or submitted under 28 U.S.C. 1746, a law that permits statements to be made under penalty of perjury as a substitute for notarization. While no specific form is required, you may obtain forms for this purpose from the Chief Freedom of Information Officer, http://www.dot.gov/foia or 202.366.4542.

NOTIFICATION PROCEDURES:

Individuals seeking to contest the content of any record pertaining to him or her in the system may contact the System Manager following the procedures described in “Record Access Procedures” above.

EXEMPTIONS PROMULGATED FOR THE SYSTEM:

None.

HISTORY:

None.

Issued in Washington, DC.
Claire W. Barrett,
Departmental Chief Privacy Officer.

[FR Doc. 2019-22915 Filed 10-21-19; 8:45 am]

BILLING CODE 4910-9X-P